NATIONAL CREDIT UNION ADMINISTRATION

Privacy Act of 1974; System of Records

AGENCY: National Credit Union Administration.

ACTION: Rescindment of systems of records notices.

SUMMARY: The National Credit Union Administration (NCUA) is issuing a public notice of its intent to rescind two Privacy Act systems of records notices. These systems have been superseded by Government-wide systems of records notices. This notice formally rescinds the two systems of records notices identified below.

DATES: These changes take effect on February 1, 2024.

ADDRESSES: You may submit comments by any of the following methods, but please send comments by one method only:

• Mail: Address to Melane Conyers-Ausbrooks, Secretary of the Board, National Credit Union Administration, 1775 Duke Street, Alexandria, Virginia 22314-3428.

• Hand Delivery/Courier: Same as mail address.

FOR FURTHER INFORMATION CONTACT: Jennifer Harrison, Attorney-Advisor, Office of General Counsel, (703) 518-6540.

SUPPLEMENTARY INFORMATION: Pursuant to the provisions of the Privacy Act of 1974, the NCUA is rescinding the following two systems of records notices from its system of records inventory. As part of a routine review, the NCUA determined that these systems of records notices have been superseded by government-wide system of records notices. A government-wide system of records is a system of records in which one agency has regulatory authority over the records in the custody of multiple agencies and that agency has the responsibility for publishing a system of records notice that applies to all records regardless of their custodial location. The original publication of these system of records notices is covered below in the History section.

1. NCUA-7, Employee Injury File. This system of records notice has been superseded by a Government-wide system of records notice, DOL/GOVT-1, Office of Workers' Compensation Programs, Federal Employees' Compensation Act File (published at 81 FR 25776 on April 29, 2016).

2. NCUA-14, PaymentNet J.P. Morgan Chase Bank PaymentNet. This system of records notice has been superseded by two Government-wide system of records notices, GSA/GOVT-3, Travel Charge Card Program (published at 78 FR 20108 on April 3, 2013), and GSA/GOVT-6, GSA SmartPay Purchase Charge Card Program (published at 73 FR 22376 on April 25, 2008).

SYSTEM NAME AND NUMBER:

1. NCUA-7, Employee Injury File.

2. NCUA-14, PaymentNet J.P. Morgan Chase Bank PaymentNet.

HISTORY:

1. NCUA-7, Employee Injury File, originally published at 65 FR 3486 (Jan. 21, 2000), modifications published at 71 FR 77807 (Dec. 27, 2006) and 75 FR 41539 (July 16, 2010).

2. NCUA-14, J.P. Morgan Chase Bank PaymentNet, originally published at 71 FR 77807 (Dec. 27, 2006); modification published at 75 FR 41539 (July 16, 2010).

By the National Credit Union Administration Board on January 23, 2024.
Melane Conyers-Ausbrooks,
Secretary of the Board.

[FR Doc. 2024-01977 Filed 1-31-24; 8:45 am]

BILLING CODE P